DEPARTMENT OF JUSTICE

Antitrust Division

United States v. American Society of Composers, Authors and Publishers

Notice is hereby given that on September 5, 2000 a proposed Second Amended Final Judgment, Stipulation and Memorandum in Support were filed with the United States District Court for the Southern District of New York in United States of America v. American Society of Composers, Authors and Publishers, Civil Action No. 13-95. On February 26, 1941, the United States filed a Compliant alleging that the collective licensing activities of ASCAP violated Section 1 of of the Sherman Act, 15 U.S.C. 1. The original Final Judgment, filed the same time as the Complaint, required ASCAP to grant licenses for performing rights on request and to provide per program licenses. The judgment was substantially amended March 14, 1950 (the Amended Final Judgment or AFJ) and again January 7, 1960 with entry of the “1960 Order.” Also on March 14, 1950, a separate decree was entered in United States of America v. American Society of Composers, Authors and Publishers, Civil Action 42-245 (the “Foreign Decree”). That decree, as amended in 1997, prohibits ASCAP from entering into exclusive agreements with foreign performing rights organizations. The proposed Second Amended Final Judgment would update licensing requirements and the provisions addressing relationships between ASCAP and its members, and incorporate provisions of the Foreign Decree. Upon entry of the Second Amended Final Judgment, the 1960 Order, the Amended Final Judgment and Memorandum in Support are available for inspection at the Department of Justice in Washington, DC in Room 215, 325 Seventh Street, NW. and at the Office of the Clerk of the United States District Court for the Southern District of New York, New York. Copies of any of these materials may be obtained upon request and payment of a copying fee.

Public comment is invited within 60 days of this notice. Such comments, and responses thereto, will be published in the Federal Register and filed with the Court. Comments should be directed to James Wade, Chief, Civil Task Force, Antitrust Division, Department of Justive, Washington, DC 20530, (202) 616-5935.

Mary Jean Moltenbrey,
Director, Civil Non-Merger Enforcement, Antitrust Division.

[FR Doc. 00-24604 Filed 9-25-00; 8:45 am]

BILLING CODE 4410-11-M